SMALL BUSINESS ADMINISTRATION.

National Small Business Development Center Advisory Board; Public Meeting

Pursuant to the Federal Advisory Committee Act, 5 U.S.C. Appendix 2, section 10(a)(2), notice is hereby given that the U.S. Small Business Administration's (SBA), National Small Business Development Center (SBDC) Advisory Board, will be hosting a public board meeting to discuss such matters that may be presented by members, and the staff of the U.S. Small Business Administration. The meeting is scheduled for Tuesday, March 4, 2008 from 8:30 a.m. to 4 p.m. Eastern Standard Time at the SBA Office of Small Business Investment Companies (SBIC) Conference Room, 6th Floor, 409 Third Street, SW., Washington, DC 20416.

The purpose of the meeting is to meet with and welcome a new board member and to facilitate board briefings with the Administrator, senior staff, and SBA program offices.

The meeting is open to the public however advance notice of attendance is requested. Anyone wishing to attend the meeting must contact Alanna Falcone by Friday, February 29, 2008 by e-mail at alanna.falcone@sba.gov or fax (202) 481-0134. Shorter than usual notice is being provided by SBA in order for the SBDC Advisory Board to convene during the same week as other meetings and conferences which will bring a substantial representation from the SBA SBDC grantee community to the DC area.

Cherylyn LeBon,
Assistant Administrator for Intergovernmental Affairs, SBA Committee Management Officer.

[FR Doc. E8-3872 Filed 2-28-08; 8:45 am]

BILLING CODE 8025-01-P